DEPARTMENT OF TRANSPORTATION

Office of the Secretary

14 CFR Part 382

[Docket No. DOT-OST-2015-0246]

RIN 2105-AE12

Nondiscrimination on the Basis of Disability in Air Travel: Negotiated Rulemaking Committee Membership and First Meeting

AGENCY: Office of the Secretary, Department of Transportation.

ACTION: Notice of negotiated rulemaking (Reg-Neg) committee membership and public meeting.

SUMMARY: The Department of Transportation (“Department” or “DOT”) announces the appointment of members to the Advisory Committee on Accessible Air Transportation (ACCESS Advisory Committee). The ACCESS Advisory Committee was established to negotiate and develop a proposed rule concerning accommodations for air travelers with disabilities addressing inflight entertainment (IFE), accessible lavatory on new single-aisle aircraft, and service animals. Additionally, DOT announces that the first meeting of the ACCESS Advisory Committee will be held on May 17 and 18, 2016. The meeting is open to the public for its entirety.

DATES: The first meeting of the ACCESS Advisory Committee will be held on May 17 and 18, 2016, from 9:00 a.m. to 5:00 p.m., Eastern Time.

ADDRESSES: The meeting will be held at the Omni Shoreham Hotel, 2500 Calvert Street NW., Washington, DC 20001, 202-234-0700, in the Diplomat Room. Attendance is open to the public up to the room's capacity of 150 attendees. Since space is limited, any member of the general public who plans to attend this meeting must notify the registration contact identified below no later than May 10, 2016.

FOR FURTHER INFORMATION CONTACT: To register to attend the meeting, please contact Alyssa Battle (Abattle@linkvisum.com; 703-442-4575 extension 127) or Kyle Illgenfritz (kilgenfritz@linkvisum.com; 703-442-4575 extension 128). For other information, please contact Livaughn Chapman or Vinh Nguyen, Office of the Aviation Enforcement and Proceedings, U.S. Department of Transportation, by email at livaughn.chapman@dot.gov or vinh.nguyen@dot.gov or by telephone at 202-366-9342.

SUPPLEMENTARY INFORMATION:

I. Background

On December 7, 2015, the Department published a notice in the Federal Register announcing its intent to consider a Reg-Neg on six issues—(1) inflight entertainment accessibility; (2) supplemental medical oxygen; (3) service animals; (4) accessible lavatories on single-aisle aircraft; (5) seating accommodations; and (6) carrier reporting of disability service requests.¹ DOT also announced that we had hired a neutral convener, Professor Richard Parker, to speak with disability advocacy organizations, airlines, and others about the feasibility of conducting a Reg-Neg on these six issues. Mr. Parker conducted interviews with 46 different stakeholders representing these interests and prepared a convening report to DOT on the feasibility of conducting the negotiated rulemaking under consideration. The convening report is available in the rulemaking docket at DOT-OST-2015-0246.

¹ 80 FR 75953 (Dec. 7, 2015).

Based on the convening report, the comments received on the December notice, and on the statutory factors in the Negotiated Rulemaking Act (5 U.S.C. 563), DOT decided that it would be in the public interest to establish a negotiated rulemaking committee with a narrower scope. On April 7, 2016, DOT announced that it would establish a Reg-Neg committee to negotiate and develop proposed amendments to the Department's disability regulation on three issues: Whether to require accessible inflight entertainment (IFE) and strengthen accessibility requirements for other in-flight communications; whether to require an accessible lavatory on new single-aisle aircraft over a certain size; and whether to amend the definition of “service animals” that may accompany passengers with a disability on a flight.²

² 81 FR 20265 (Apr. 7, 2016).

II. Establishment of the ACCESS Advisory Committee

The ACCESS Advisory Committee is established by charter in accordance with the Federal Advisory Committee Act (FACA), 5 U.S.C. App. 2. Secretary of Transportation Anthony Foxx approved the ACCESS Advisory Committee charter on April 6, 2016. In accordance with section 14 of FACA, the charter provides for the ACCESS Advisory Committee to terminate when the stated objectives of the Committee have been accomplished (i.e., the committee submits its recommendations to the Secretary) or upon the expiration of a period not to exceed two years, whichever happens sooner.

III. ACCESS Advisory Committee Membership

In its April 7th Federal Register notice, DOT announced that it was soliciting applications and nominations for membership on the ACCESS Advisory Committee. DOT stated that it would choose the Committee members based on four main criteria: (1) Representativeness (does the applicant represent a significant stakeholder group that will be substantially affected by the final rule); (2) expertise (does the applicant bring essential knowledge, expertise and/or experience regarding accessibility and the topic area(s) of interest that will enrich the discussion of the available options and their respective costs and benefits); (3) balance (does the slate of selected applicants comprise a balanced array of representative and expert stakeholders); and (4) willingness to participate fully (is the applicant able and willing to attend the listed meetings and associated working group conference calls, bring in other experts from the applicant's organization as needed and relevant, bargain in good faith, and generally contribute constructively to a rigorous policy development process).

DOT proposed for public comment the following tentative list of stakeholder categories to be members of the Committee: DOT; airlines; cross-disability advocacy groups; consumer groups; professional associations of flight attendants; advocacy groups for blind and visually impaired individuals; advocacy groups representing service animal users; advocacy groups for representing people with psychiatric disabilities; providers, manufactures, or experts of IFE products, systems, and services; advocacy groups representing deaf and hard of hearing individuals; academic or non-profit institutions having technical expertise in accessibility research and development; aircraft manufacturers; and advocacy groups representing individuals with mobility disabilities. DOT stated that Committee members will be selected to represent not only the interest of that individual's own organization but rather the collective stakeholder interests of organizations in the same stakeholder category. DOT also noted that all individuals or organizations who wished to be selected to serve on the Committee should submit an application regardless of whether their stakeholder category appeared on list.

After a careful review of all the individuals nominated to be ACCESS Advisory Committee members, the Secretary of Transportation hereby appoints the following members:

• Michelle Albert, Boeing Commercial Airplanes

• Zainab Alkebsi, National Association of the Deaf

• Mary Barnicle, United Airlines

• Kelly Buckland, National Council on Independent Living

• Curtis L. Decker, National Disability Rights Network

• Parnell Diggs, National Federation of the Blind

• Paul Doell, National Air Carrier Association

• Geoff Freed, National Center for Accessible Media at WGBH

• Brian Friedman, JetBlue Airways

• Laurie A. Gawelko, Service Dog Express, LLC

• Lise Hamlin, Hearing Loss Association of America

• Dr. Katherine Hunter-Zaworski, Oregon State University

• Candace Kolander, Association of Flight Attendants

• Doug Lavin, International Air Transport Association

• Russ Lemieux, Airline Passenger Experience Association

• Lorne Mackenzie, WestJet Airlines

• David Martin, Delta Air Lines

• Orit H. Michiel, Motion Picture Association of America

• Bradley W. Morris, Psychiatric Service Dog Partners

• Lawrence Mullins, Lufthansa Group

• Lee Page, Paralyzed Veterans of America

• Deborah Lynn Price, Frontier Airlines

• Roser Roca-Toha, Airbus

• Alicia Smith, National Alliance on Mental Illness

• Anthony Stevens, American Counsel of the Blind

• Jennifer Sunderman, Regional Airline Association

• Blane A. Workie, U.S. Department of Transportation (Designated Federal Officer)

IV. Meeting Participation

The meeting will be open to the public. Attendance will necessarily be limited by the size of the meeting room (maximum 150 attendees). Since space is limited, we ask that any member of the general public who plans to attend the first meeting notify the registration contact, contact Alyssa Battle (Abattle@linkvisum.com; 703-442-4575 extension 127) or Kyle Illgenfritz (kilgenfritz@linkvisum.com; 703-442-4575 extension 128) at Linkvisum, no later than May 10, 2016. At the discretion of the facilitator and the Committee and time permitting, members of the public are invited to contribute to the discussion and provide oral comments.

The Committee will dedicate a substantial amount of time at the first meeting to establishing the rules, procedures, and process of the Committee, such as outlining the voting rights of the Committee members and defining the meaning of “consensus.”

V. Submitting Written Comments

Members of the public may submit written comments on the topics to be considered during the meeting by May 10, 2016, to Federal Docket Management System (FDMC), Docket Number DOT-OST-2015-0246. You may submit your comments and material online or by fax, mail, or hand delivery, but please use only one of these means. DOT recommends that you include your name and a mailing address, an email address, or a phone number in the body of your document so that DOT can contact you if there are questions regarding your submission.

To submit your comment online, go to http://www.regulations.gov, put the docket number, DOT-OST-2015-0246, in the keyword box, and click “Search.” When the new screen appears, click on the “Comment Now!” button and type your comment into the text box on the following screen. Choose whether you are submitting your comment as an individual or on behalf of a third party and then submit. If you submit your comments by mail or hand delivery, submit them in an unbound format, no larger than 8½ by 11 inches, suitable for copying and electronic filing.

VI. Viewing Comments and Documents

To view comments and any documents mentioned in this preamble as being available in the docket, go to http://www.regulations.gov. Enter the docket number, DOT-OST-2015-0246, in the keyword box, and click “Search.” Next, click the link to “Open Docket Folder” and choose the document to review. If you do not have access to the Internet, you may view the docket online by visiting the Docket Management Facility in Room W12-140 on the ground floor of the DOT West Building, 1200 New Jersey Avenue SE., Washington, DC 20590, between 9 a.m. and 5 p.m., E.T., Monday through Friday, except Federal holidays.

VII. Privacy Act

In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

VIII. Future Committee Meetings

DOT anticipates that the ACCESS Advisory Committee will have five additional two-day meetings in Washington, DC. The meetings are tentatively scheduled for following dates: Second meeting, June 14-15; third meeting, July 11-12; fourth meeting, August 16-17; fifth meeting, September 22-23, and the sixth and final meeting, October 13-14. Notices of all future meetings will be published in the Federal Register at least 15 calendar days prior to each meeting.

Notice of this meeting is being provided in accordance with the Federal Advisory Committee Act and the General Services Administration regulations covering management of Federal advisory committees.

(41 CFR part 102-3.)

Issued under the authority of delegation in 49 CFR 1.27(n).
Dated: April 27, 2016.
Kristin Amerling,
Deputy General Counsel.

[FR Doc. 2016-10307 Filed 4-29-16; 8:45 am]

BILLING CODE 4910-9X-P